FEDERAL DEPOSIT INSURANCE CORPORATION

Notice of Agency Meeting

Pursuant to the provisions of the “Government in the Sunshine Act” (5 U.S.C. 552b), notice is hereby given that the Federal Deposit Insurance Corporation's Board of Directors will meet in open session at 10 a.m. on Tuesday, October 16, 2007, to consider the following matters:

Summary Agenda: No substantive discussion of the following items is anticipated. These matters will be resolved with a single vote unless a member of the Board of Directors requests that an item be moved to the discussion agenda.

Disposition of minutes of previous Board of Directors' meetings.

Memorandum and resolution re: Proposed FDIC Liquidation Investment Policy.

Memorandum and resolution re: Final Rule Adopting Amendment to Part 344 to Extend the Time Period to Report Quarterly Personal Securities Transactions.

Memorandum and resolution re: Proposed Amendments to Annual Audit and Reporting Requirements (Part 363) and Related Technical Amendment (Part 308, Subpart U).

Memorandum and resolution re: Notice of New and Revised Privacy Act Systems of Records.

Discussion Agenda:

Memorandum and resolution re: Interagency Final Rule Regarding Affiliate Marketing—Section 214 of the Fair and Accurate Credit Transactions Act of 2003.

Memorandum and resolution re: Interagency Final Rule Regarding Identity Theft Red Flags and Address Discrepancies under Section 114 and 315 of the Fair and Accurate Credit Transactions Act of 2003.

The meeting will be held in the Board Room on the sixth floor of the FDIC Building located at 550 17th Street, NW., Washington, DC.

The FDIC will provide attendees with auxiliary aids (e.g., sign language interpretation) required for this meeting. Those attendees needing such assistance should call (703) 562-6067 (Voice or TTY), to make necessary arrangements.

Requests for further information concerning the meeting may be directed to Mr. Robert E. Feldman, Executive Secretary of the Corporation, at (202) 898-7122.

Dated: October 9, 2007.
Federal Deposit Insurance Corporation.
Valerie J. Best,
Assistant Executive Secretary.

[FR Doc. E7-20175 Filed 10-12-07; 8:45 am]

BILLING CODE 6714-01-P